DEPARTMENT OF HOUSING AND URBAN DEVELOPMENT

[Docket No. FR-7024-N-08]

30-Day Notice of Proposed Information Collection: License for the Use of Personally Identifiable Information Protected Under the Privacy Act of 1974; OMB #2528-0297

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: February 28, 2020.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Anna P. Guido, Reports Management Officer, QMAC, Department of Housing and Urban Development, 451 7th Street SW, Washington, DC 20410; email her at Anna.P.Guido@hud.gov or telephone 202-402-5535. This is not a toll-free number. Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on November 8, 2019 (84 FR 60429).

A. Overview of Information Collection

Title of Information Collection: License for the Use of Personally Identifiable Information Protected Under the Privacy Act of 1974.

OMB Approval Number: 2528-0297.

Type of Request: Revision of currently approved collection.

Form Number: None.

Description of the need for the information and proposed use: The United States Department of Housing and Urban Development (HUD) collects and maintains personally identifiable information on tenants in public and assisted housing, the confidentiality of which is protected by the Privacy Act of 1974 (5 U.S.C. 552a). On occasion, HUD shares this information with researchers subject to stringent requirements to protect these households from unauthorized disclosure of information. The purpose for sharing is to further policy-relevant research on the effectiveness of HUD programs.

HUD may, under the terms of its Routine Use Inventory (77 FR 17361), share these data with researchers whom HUD has awarded contracts, grants, or service agreements. HUD has shared data with contractors and grantees and will continue to share data under service agreements because it has a legal form for effectuating such an agreement. HUD does not limit access to the information to parties that have received specific funding to carry out a study through a grant or contract. Instead, HUD also shares the data with legitimate research organizations that have conceived policy-relevant analyses and that are able and willing to protect the data from unauthorized disclosure. The legal form for the service agreement is herein called a “license.”

HUD will continue making the data available for statistical, research, or evaluation purposes to organizations qualified and capable of research and analysis consistent with the statistical, research, or evaluation purposes for which the data were provided or are maintained, but only if the data are used and protected in accordance with the terms and condition stated in the license, upon receipt of such assurance of qualification and capability, and it is agreed by the organization requesting such information and HUD.

Information collection | Number of respondents | Frequency of response | Responses per annum | Burden hour per response | Annual burden hours | Hourly cost per response | Annual cost
Applicants | 15.00 | 1.00 | 15.00 | 1.00 | 15.00 | $50.00 | $750.00
Quarterly Reports | 0.00 | 0.00 | 0.00 | 0.00 | 0.00 | 0.00 | 0.00
Annual Reports | 40.00 | 1.00 | 40.00 | 1.00 | 40.00 | 44.00 | 1,760.00
Final Reports | 6.00 | 1.00 | 6.00 | 1.00 | 6.00 | 50.00 | 300.00
Recordkeeping | 15.00 | 3.00 | 45.00 | 1.00 | 45.00 | 30.00 | 1,350.00
Total | 76.00 |  |  |  | 106.00 |  | 4,160.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. Chapter 35.

Dated: January 23, 2020.
Anna P. Guido,
Department Reports Management Officer, Office of the Chief Information Officer.

[FR Doc. 2020-01557 Filed 1-28-20; 8:45 am]

BILLING CODE 4210-67-P